FEDERAL DEPOSIT INSURANCE CORPORATION

[OMB No. 3064-0113]

Agency Information Collection Activities: Notice; Correction; Extension of Comment Period

AGENCY: Federal Deposit Insurance Corporation (FDIC).

ACTION: Notice; correction; extension of comment period.

SUMMARY: This document contains an extension of comment period and a correction to FDIC's Agency Information Collection Activities notice that published in the Federal Register on September 14, 2022. This document updates expected respondent counts in the burden table labeled “Summary of Estimated Annual Burdens (OMB 3064-0113).”

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Correction

In the Federal Register of September 14, 2022, in 87 FR 56413, FR Doc 2022-19802, on pages 56413—56417, make the following changes:

1. On page 56413, in the third column, correct the DATES caption to read:

DATES: Comments for information collection 3064-0113 (External Audits) must be submitted on or before October 28, 2022.

Comments for information collection 3064-0092 (Community Reinvestment Act) and information collection 3064-0174 (Funding and Liquidity Risk Management) must be submitted on or before October 14, 2022.

2. Starting on page 56415, extending across three columns, correct the table labeled “Summary of Estimated Annual Burdens (OMB 3064-0113)” to read:

Summary of Estimated Annual Burden (OMB No. 3064-0113)
Information collection (obligation to respond) | Type of burden (frequency of response) | Number of respondents | Number of responses per respondent | Time per response (HH:MM) | Annual burden (hours)
FDIC-Supervised Institutions With $10 billion or More in Consolidated Total Assets
1. Annual Report (Recordkeeping), 12 CFR 363 (Mandatory) | Recordkeeping (Annual) | 63 | 1 | 150:00 | 9,450
2. Annual Report (Reporting), 12 CFR 363 (Mandatory) | Reporting (Annual) | 63 | 1 | 150:00 | 9,450
3. Audit Committee Composition (Recordkeeping), 12 CFR 363 (Mandatory) | Recordkeeping (Annual) | 63 | 1 | 03:00 | 189
4. Audit Committee Composition (Reporting), 12 CFR 363 (Mandatory) | Reporting (Annual) | 63 | 1 | 03:00 | 189
5. Filing of Other Reports (Recordkeeping), 12 CFR 363 (Mandatory) | Recordkeeping (Annual) | 63 | 1 | 00:08 | 8
6. Filing of Other Reports (Reporting), 12 CFR 363 (Mandatory) | Reporting (Annual) | 63 | 1 | 00:08 | 8
7. Notice of Change in Accountants (Recordkeeping), 12 CFR 363 (Mandatory) | Recordkeeping (Annual) | 16 | 1 | 00:15 | 4
8. Notice of Change in Accountants (Reporting), 12 CFR 363 (Mandatory) | Reporting (Annual) | 16 | 1 | 00:15 | 4
FDIC-Supervised Institutions With $3 Billion to Less Than $10 Billion in Consolidated Total Assets
9. Annual Report (Recordkeeping), 12 CFR 363 (Mandatory) | Recordkeeping (Annual) | 131 | 1 | 125:00 | 16,375
10. Annual Report (Reporting), 12 CFR 363 (Mandatory) | Reporting (Annual) | 131 | 1 | 125:00 | 16,375
11. Audit Committee Composition (Recordkeeping), 12 CFR 363 (Mandatory) | Recordkeeping (Annual) | 131 | 1 | 03:00 | 393
12. Audit Committee Composition (Reporting), 12 CFR 363 (Mandatory) | Reporting (Annual) | 131 | 1 | 03:00 | 393
13. Filing of Other Reports (Recordkeeping), 12 CFR 363 (Mandatory) | Recordkeeping (Annual) | 131 | 1 | 00:08 | 17
14. Filing of Other Reports (Reporting), 12 CFR 363 (Mandatory) | Reporting (Annual) | 131 | 1 | 00:08 | 17
15. Notice of Change in Accountants (Recordkeeping), 12 CFR 363 (Mandatory) | Recordkeeping (Annual) | 33 | 1 | 00:15 | 8
16. Notice of Change in Accountants (Reporting), 12 CFR 363 (Mandatory) | Reporting (Annual) | 33 | 1 | 00:15 | 8
FDIC-Supervised Institutions With $1 Billion to Less Than $3 Billion in Consolidated Total Assets
17. Annual Report (Recordkeeping), 12 CFR 363 (Mandatory) | Recordkeeping (Annual) | 346 | 1 | 100:00 | 34,600
18. Annual Report (Reporting), 12 CFR 363 (Mandatory) | Reporting (Annual) | 346 | 1 | 100:00 | 34,600
19. Audit Committee Composition (Recordkeeping), 12 CFR 363 (Mandatory) | Recordkeeping (Annual) | 346 | 1 | 02:00 | 692
20. Audit Committee Composition (Reporting), 12 CFR 363 (Mandatory) | Reporting (Annual) | 346 | 1 | 02:00 | 692
21. Filing of Other Reports (Recordkeeping), 12 CFR 363 (Mandatory) | Recordkeeping (Annual) | 346 | 1 | 00:08 | 46
22. Filing of Other Reports (Reporting), 12 CFR 363 (Mandatory) | Reporting (Annual) | 346 | 1 | 00:08 | 46
23. Notice of Change in Accountants (Recordkeeping), 12 CFR 363 (Mandatory) | Recordkeeping (Annual) | 87 | 1 | 00:15 | 22
24. Notice of Change in Accountants (Reporting), 12 CFR 363 (Mandatory) | Reporting (Annual) | 87 | 1 | 00:15 | 22
FDIC-Supervised Institutions With $500 Million to Less Than $1 Billion in Consolidated Total Assets
25. Annual Report (Recordkeeping), 12 CFR 363 (Mandatory) | Recordkeeping (Annual) | 476 | 1 | 12:30 | 5,950
26. Annual Report (Reporting), 12 CFR 363 (Mandatory) | Reporting (Annual) | 476 | 1 | 12:30 | 5,950
27. Audit Committee Composition (Recordkeeping), 12 CFR 363 (Mandatory) | Recordkeeping (Annual) | 476 | 1 | 01:00 | 476
28. Audit Committee Composition (Reporting), 12 CFR 363 (Mandatory) | Reporting (Annual) | 476 | 1 | 01:00 | 476
29. Filing of Other Reports (Recordkeeping), 12 CFR 363 (Mandatory) | Recordkeeping (Annual) | 476 | 1 | 00:08 | 63
30. Filing of Other Reports (Reporting), 12 CFR 363 (Mandatory) | Reporting (Annual) | 476 | 1 | 00:08 | 63
31. Notice of Change in Accountants (Recordkeeping), 12 CFR 363 (Mandatory) | Recordkeeping (Annual) | 119 | 1 | 00:15 | 30
32. Notice of Change in Accountants (Reporting), 12 CFR 363 (Mandatory) | Reporting (Annual) | 119 | 1 | 00:15 | 30
FDIC-Supervised Institutions With Less Than $500 Million in Consolidated Total Assets
33. Filing of Other Reports (Recordkeeping), 12 CFR 363 (Voluntary) | Recordkeeping (Annual) | 2,090 | 1 | 00:15 | 523
34. Filing of Other Reports (Reporting), 12 CFR 363 (Voluntary) | Reporting (Annual) | 2,090 | 2 | 00:15 | 1,045
Total Annual Burden (Hours): |  |  |  |  | 138,214
Source: FDIC.
Note: The annual burden estimate for a given collection is calculated in two steps. First, the total number of annual responses is calculated as the whole number closest to the product of the annual number of respondents and the annual number of responses per respondent. Then, the total number of annual responses is multiplied by the time per response and rounded to the nearest hour to obtain the estimated annual burden for that collection. This rounding ensures the annual burden hours in the table are consistent with the values recorded in the OMB's regulatory tracking system.

Federal Deposit Insurance Corporation.
Dated at Washington, DC, on September 22, 2022.
James P. Sheesley,
Assistant Executive Secretary.

[FR Doc. 2022-20923 Filed 9-27-22; 8:45 am]

BILLING CODE 6714-01-P